DEPARTMENT OF ENERGY

Federal Energy Regulatory Commission

[Docket No. EC03-18-000, et al.]

Athens Generating Company, L.P., et al.; Electric Rate and Corporate Filings

November 20, 2002.

The following filings have been made with the Commission. The filings are listed in ascending order within each docket classification.

1. Athens Generating Company, L.P.; Covert Generating Company, LLC; Harquahala Generating Company, LLC; Millennium Power Partners, L.P.

[Docket No. EC03-18-000]

Take notice that on November 15, 2002, Athens Generating Company, L.P., Covert Generating Company, LLC, Harquahala Generating Company, LLC, and Millennium Power Partners, L.P., each of which is an indirect, wholly-owned subsidiary of PG&E National Energy Group, Inc. (PG&E NEG) (and which may be referred to hereafter individually as Applicant or jointly as Applicants) tendered for filing, pursuant to section 203 of the Federal Power Act, 16 U.S.C. section 824b (2000), and part 33 of the Commission's regulations, 18 CFR part 33 (2002), an application for authorization to dispose of jurisdictional facilities. More specifically, PG&E NEG seeks approval to effectuate an internal corporate reorganization with respect to some or all of the Applicants and then transfer all of its ownership interests in the Applicants to one or more existing or to-be-formed companies that are direct or indirect wholly-owned subsidiaries of the lenders to the Applicants and/or to their upstream owners.

Comment Date: December 6, 2002.

2. Hermiston Generating Company, L.P.

[Docket No. ER01-2159-003]

Take notice that on November 18, 2002, Hermiston Generating Company, LP (Applicant), an indirect, wholly-owned subsidiary of PG&E National Energy Group, Inc. (PG&E NEG) tendered for filing, information that reflects a departure from the characteristics relied upon by the Commission in approving market-based pricing. Specifically, Applicant has submitted information concerning a potential sale of a portion of the direct or indirect upstream ownership of PG&E NEG to a direct or indirect wholly-owned subsidiary of Sumitomo Corporation.

Comment Date: December 9, 2002.

3. The Empire District Electric Company

[Docket No. ER03-167-000]

Take notice that on November 18, 2002, The Empire District Electric Company (Empire) submitted a revised attachment C to its proposal to cancel parts of its Open Access Transmission Tariff (OATT) and to substitute an Ancillary Services Form of Agreement, which was filed on November 6, 2002. The revised attachment C contains a list of entities to be served with the proposal and should replace the version of attachment C that was initially filed on November 6, 2002. As Empire no longer provides transmission under its existing OATT, its proposed termination of the Empire OATT will not impact any customers. Empire requests waiver to allow its proposal to take effect on January 6, 2003, as initially requested.

Comment Date: December 9, 2002.

4. California Independent System Operator Corporation

[Docket No. ER03-187-000]

Take notice that on November 18, 2002, the California Independent System Operator Corporation (ISO), tendered for filing a Meter Service Agreement between the ISO and Termoeleéctrica de Mexicali S. de R.L. de C.V. (TDM) for acceptance by the Commission.

The ISO states that this filing has been served on TDM and the California Public Utilities Commission. The ISO is requesting waiver of the 60-day notice requirement to allow the Meter Service Agreement to be made effective November 14, 2002.

Comment Date: December 9, 2002.

5. Aquila, Inc.

[Docket No. ER03-188-000]

Take notice that on November 18, 2002, Aquila, Inc. (Aquila), filed a notice of termination of the June 5, 2001, Transmission Service Agreement for Non-Firm Point-to-Point Transmission Service between Aquila and El Paso Merchant Energy. Aquila requests that the termination be made effective on September 30, 2002.

Comment Date: December 9, 2002.

6. Aquila, Inc.

[Docket No. ER03-189-000]

Take notice that on November 18, 2002, Aquila, Inc. (Aquila), filed a notice of termination of the April 17, 2000, Transmission Service Agreement for Short-Term Firm Point-to-Point Transmission Service between Aquila and El Paso Merchant Energy. Aquila requests that the termination be made effective on October 19, 2002.

Comment Date: December 9, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-30079 Filed 11-26-02; 8:45 am]

BILLING CODE 6717-01-P